DEPARTMENT OF HEALTH AND HUMAN SERVICES

Centers for Medicare & Medicaid Services

[CMS-3450-CN]

Medicare Program; Announcement of the Re-Approval of the Joint Commission as an Accreditation Organization Under the Clinical Laboratory Improvement Amendments of 1988; Correction

AGENCY: Centers for Medicare & Medicaid Services (CMS), Department of Health and Human Services (HHS).

ACTION: Notice; correction.

SUMMARY: This document corrects technical errors that appeared in the notice published in the May 24, 2024, Federal Register titled “Medicare Program; Announcement of the Reapproval of the Joint Commission as an Accreditation Organization Under the Clinical Laboratory Improvement Amendments of 1998”.

DATES:

Effective date: This correction notice is effective November 19, 2025.

Applicability date: The corrections in this notice are applicable to the re-approval of the Joint Commission as an Accreditation Organization Under the Clinical Laboratory Improvement Amendments (CLIA) of 1988 from May 24, 2024 through May 24, 2030.

FOR FURTHER INFORMATION CONTACT: Raymond Castillo, (312) 886-3595.

SUPPLEMENTARY INFORMATION:

I. Background

In FR Doc. 2024-11421 of May 24, 2024 (89 FR 45900 through 45901), there were technical errors that are identified and corrected in this correcting document.

II. Summary of Errors

On page 45900, in the SUMMARY section, we inadvertently omitted several entries from the list of specialties and subspecialties under the Clinical Laboratory Improvement Amendments (CLIA) of 1988. We also made inadvertent technical errors in several bulleted paragraphs.

III. Correction of Errors

In FR Doc. 2024-11421 of May 24, 2024 (89 FR 45900 through 45901), make the following correction:

1. On page 45900,

a. First column, sixth full paragraph (SUMMARY section), lines 15 through 22, the phrase “Toxicology, and Endocrinology; Hematology, including routine hematology and coagulation; Immunohematology, including ABO Group, D (Rho) typing, Unexpected Antibody Detection, Compatibility Testing, and Antibody Identification; Pathology, including Histopathology, Oral Pathology, and Cytology.” is corrected to read, “Toxicology, Endocrinology, and Urinalysis; Hematology, including routine hematology and coagulation; Immunohematology, including ABO Group, D (Rho) typing, Unexpected Antibody Detection, Compatibility Testing, and Antibody Identification; Pathology, including Histopathology, Oral Pathology, Cytology, Histocompatibility, Radiobioassay, and Clinical Cytogenetics.”

b. Second column,

(1) Third bulleted paragraph, lines 2 and 3, the phrase “Toxicology, and Endocrinology.” is corrected to read, “Toxicology, Endocrinology, and Urinalysis.”.

(2) Sixth bulleted paragraph, lines 1 through 3, the paragraph “• Pathology, including Histopathology, and Oral Pathology, and Cytology.” is corrected to read as follows:

“• Histocompatibility.

• Radiobioassay.

• Clinical Cytogenetics.”

• Pathology, including Histopathology, and Oral Pathology, and Cytology.”

c. Third column,

(1) Third bulleted paragraph, lines 2 and 3, the phrase “Toxicology, and Endocrinology.” is corrected to read, “Toxicology, Endocrinology, and Urinalysis.”.

(2) Sixth bulleted paragraph, lines 1 through 3, the paragraph “• Pathology, including Histopathology, and Oral Pathology, and Cytology.” is corrected to read as follows:

“• Pathology, including Histopathology, and Oral Pathology, and Cytology.

• Histocompatibility.

• Radiobioassay.

• Clinical Cytogenetics.”

The Director of the Office of Strategic Operations and Regulatory Affairs of the Centers for Medicare & Medicaid Services (CMS), Kathleen Cantwell, having reviewed and approved this document, authorizes Trenesha Fultz-Mimms, who is the Federal Register Liaison, to electronically sign this document for purposes of publication in the Federal Register.

Trenesha Fultz-Mimms,
Federal Register Liaison, Centers for Medicare & Medicaid Services.

[FR Doc. 2025-20329 Filed 11-18-25; 8:45 am]

BILLING CODE P